DEPARTMENT OF LABOR

Employment and Training Administration

Agency Information Collection Activities; Comment Request; Youthful Offender Grants Management Information System, (OMB Control No. 1205-0513) Extension With Revisions

AGENCY: Employment and Training Administration (ETA), Department of Labor.

ACTION: Notice.

SUMMARY: The Department of Labor (DOL) is soliciting comments concerning a proposed extension for the authority to conduct the revision to the information collection request (ICR) titled, “Youthful Offender Grants Management Information System, (OMB Control No. 1205-0513).” This comment request is part of continuing Departmental efforts to reduce paperwork and respondent burden in accordance with the Paperwork Reduction Act of 1995 (PRA), 44 U.S.C. 3501 et seq.

DATES: Consideration will be given to all written comments received by June 21, 2016.

ADDRESSES: A copy of this ICR with applicable supporting documentation; including a description of the likely respondents, proposed frequency of response, and estimated total burden may be obtained free by contacting Ann Leonetti by telephone at 202-693-2746, TTY 1-877-889-5627, (these are not toll-free numbers) or by email at leonetti.ann@dol.gov.

Submit written comments about, or requests for a copy of, this ICR by mail or courier to the U.S. Department of Labor, Employment and Training Administration, Attention: Ann Leonetti, Room N-4508, 200 Constitution Avenue NW., Washington, DC 20210; by email: leonetti.ann@dol.gov; or by Fax 202-693-3113.

FOR FURTHER INFORMATION CONTACT: Ann Leonetti by telephone at 202-693-2746, TTY 1-877-889-5627, (these are not toll-free numbers) or by email at leonetti.ann@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Each year, the Department of Labor/Employment and Training Administration is appropriated funds for youthful offender demonstration projects. The Department of Labor uses these funds for a variety of multi-site demonstrations aimed at developing model programs for serving young offenders. The Department expects over the next few years to award 28 new Youthful Offender grants in various sets of demonstrations each year for two years of operation and up to one year of follow-up services and post-placement data collection. In any given year this will result in 28 grants in their first year of operation, 28 grants in their second year of operation, and 28 grants providing follow-up services and tracking post-placement outcomes, for a total of 84 grants collecting data each year.

This data collection request is to permit the Department of Labor to continue with revisions a management information system for these various sets of grantees. This request includes the collection of data by grantees on participant characteristics, services provided, and participant outcomes; the quarterly progress report submitted by grantees, the quarterly narrative report, and the annual recidivism report. This request continues a reporting and recordkeeping system for a minimum level of information collection that is necessary to comply with Equal Opportunity requirements, to hold Youthful Offender grantees appropriately accountable for the Federal funds they receive, including performance measures, and to allow the Department to fulfill its oversight and management responsibilities.

Revisions include adding questions on immigration status, welfare receipt, mental health treatment, and child support obligations to the data collected at intake; inserting several additional outcomes and clarifying some of the reporting items in the quarterly progress report; and broadening the recidivism survey to cover young adult offenders as well as juvenile offenders and to allow it to be filled out by the adult criminal justice system for young adult offenders. This request also adds the quarterly narrative report to be submitted by grantees. Burden hours for the quarterly narrative report were included in the supporting statement three years ago, but the report was left out of the final approval. This request also adds burden hours not included in the request three years ago for the time spent by grantees generating, reviewing, and correcting errors in the quarterly progress reports; increases the average burden to participants for the collection of intake data; and reduces the average burden hours from 30 to 16 for grantees to complete the quarterly narrative reports to make it consistent with the average hours approved for the quarterly narrative reports of similar Division of Youth services programs.

Section 185 of the Workforce Innovation and Opportunity Act authorizes the collection of data from grantees on the demographic characteristics of participants, activities provided, and program outcomes. This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0513. Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension with Revisions.

Title of Collection: Youthful Offender Grants Management Information System.

Forms: Quarterly Progress Report, Quarterly Narrative Report, Recidivism Report.

OMB Control Number: 1205-0513.

Affected Public: State, Local, and Tribal Government Agencies; Private Sector: Not-for-Profit Institutions; State and Local Juvenile and Adult Justice Agencies; State and Local Workforce Development Agencies; Program Participants.

Data collection activity | Number of respondents | Frequency | Total responses | Average time per response (hours) | Burden hours
Participant Records, Burden on Grantees | 84 Grantees | Ongoing | 12,000 | 1.6 | 19,200
Participant Records, Burden on Participants | 12,000 Participants | Ongoing | 12,000 | .5 | 6,000
Performance Report | 84 Grantees | Quarterly | 336 | 16 | 5,376
Narrative Report | 84 Grantees | Quarterly | 336 | 16 | 5,376
Recidivism Report | 84 Justice Agencies | Annual | 12,000 | .5 | 6,000
Total | 12,168 * | Varies | 36,672 | Varies | 41,952
* Unduplicated Count.

Portia Wu,
Assistant Secretary for Employment and Training Administration.

[FR Doc. 2016-09382 Filed 4-21-16; 8:45 am]

BILLING CODE 4510-FT-P